DEPARTMENT OF TRANSPORTATION

Surface Transportation Board

[STB Finance Docket No. 35227]

Middletown and New Jersey Railroad, LLC—Acquisition and Operation Exemption—Middletown & New Jersey Railway Co., Inc.

Middletown and New Jersey Railroad, LLC (Middletown), a noncarrier, has filed a verified notice of exemption under 49 CFR 1150.31 to acquire and operate 6.5 miles of rail line owned by Middletown & New Jersey Railway Co., Inc., between milepost 0.0 at Middletown, NY, and milepost 6.5 at Slate Hill, NY.

This transaction is related to a concurrently filed verified notice of exemption in STB Finance Docket No. 35228, Regional Rail, LLC.—Continuance in Control Exemption—Middletown and New Jersey Railroad, LLC., wherein Regional Rail, LLC seeks to continue in control of Middletown, upon Middletown becoming a Class III rail carrier.

The transaction is expected to be consummated on or shortly after April 5, 2009 (the effective date of the exemption).

Middletown certifies that its projected annual revenues as a result of the transaction will not result in its becoming a Class II or Class I rail carrier and further certifies that its projected annual revenue will not exceed $5 million.

Pursuant to the Consolidated Appropriations Act, 2008, Public Law No. 110-161, § 193, 121 Stat. 1844 (2007), nothing in this decision authorizes the following activities at any solid waste rail transfer facility: collecting, storing or transferring solid waste outside of its original shipping container; or separating or processing solid waste (including baling, crushing, compacting and shredding). The term “solid waste” is defined in section 1004 of the Solid Waste Disposal Act, 42 U.S.C. 6903.

If the verified notice contains false or misleading information, the exemption is void ab initio. Petitions to revoke the exemption under 49 U.S.C. 10502(d) may be filed at any time. The filing of a petition to revoke will not automatically stay the effectiveness of the exemption. Petitions for stay must be filed no later than March 27, 2009 (at least 7 days before the exemption becomes effective).

An original and 10 copies of all pleadings, referring to STB Finance Docket No. 35227, must be filed with the Surface Transportation Board, 395 E Street, SW., Washington, DC 20423-0001. In addition, a copy of each pleading must be served on Karl Morell, 1455 F Street, NW., Suite 225, Washington, DC 20005.

Board decisions and notices are available on our Web site at http://www.stb.dot.gov.

Decided: March 12, 2009.
By the Board, Joseph H. Dettmar, Acting Director, Office of Proceedings.
Kulunie L. Cannon,
Clearance Clerk.

[FR Doc. E9-5783 Filed 3-19-09; 8:45 am]

BILLING CODE 4915-01-P